DEPARTMENT OF AGRICULTURE

Farm Service Agency

Request for Extension of a Currently Approved Information Collection—Certified State Mediation Program

AGENCY: Farm Service Agency, USDA.

ACTION: Notice and request for comments.

SUMMARY: In accordance with the Paperwork Reduction Act of 1995, this notice announces the intention of the Farm Service Agency (FSA) to request an extension of approval for the information collection used in support of the Certified State Mediation Program under title 7 of the Code of Federal Regulations part 785. The collection of information is used by FSA to determine whether a State meets the eligibility criteria to be a recipient of grant funds, and to determine if the grant is being administered appropriately. Lack of adequate information to make these determinations could result in the improper administration and appropriation of Federal grant funds.

DATES: Comments must be received on or before October 21, 2003 to be assured consideration.

ADDRESSES: Comments concerning this notice should be address to Chester Bailey, Mediation Coordinator, USDA, FSA, Outreach Staff, Room 3716-S, Stop 0511, 1400 Independence Avenue, SW., Washington, DC 20250 and to: the Desk Officer for Agriculture, Office of Information and Regulatory Affairs, Office of Management and Budget, Washington, DC 20503. Comments may be submitted by e-mail to chester.bailey@wdc.usda.gov. Copies of the information collection may be obtained by contacting Chester Bailey at (202) 720-1471.

FOR FURTHER INFORMATION CONTACT: Chester Bailey, FSA, Outreach Staff, telephone (202) 720-1471.

SUPPLEMENTARY INFORMATION: Title: Certified Mediation Program.

OMB Control Number: 0560-0165.

Expiration Date of Approval: September 10, 2003.

Type of Request: Extension of Currently Approved Information Collection.

Abstract: This information is needed by FSA to effectively administer the Certified State Mediation Program in accordance with Subtitles A and B of Title V of the Agricultural Credit Act of 1987 (Pub. L. 100-233). FSA collects the information by mail, phone, fax, in person, or via the Internet. Although other institutions, public and private, generally require and collect information similar to that requested by FSA, there is a wide diversity in reporting practices.

The information to be collected includes an application for certification, re-verification for subsequent annual approval, SF-424 Application for Federal Assistance, audit reports and financial management systems and reporting requirements.

The information requested is reported annually and is necessary for the FSA to determine eligibility, and to administer the mediation grant program in an equitable and cost-effective manner.

Estimate of Burden: The public reporting burden for this information collection is estimated to average 34 hours per respondent.

Respondents: State agencies.

Estimated Number of Respondents: 29.

Estimate Number of Responses per Respondent: 6.

Estimated Total Annual Burden on Respondents: 986 hours.

Comment is invited on: (a) Whether the collection of information is necessary for the above stated purposes and the proper performance of FSA, including whether the information will have practical utility; (b) the accuracy of the agency's estimate of burden, including the validity of the methodology and assumptions used; (c) ways to enhance the quality, utility and clarity of the information being collected; and (d) ways to minimize the burden of the collection of information on those who are to respond, including through the use of appropriate automate, electronic, mechanical, or other technological collation techniques or other forms of information technology.

Comments will be summarized and included in the request for Office of Management and Budget approval.

Signed in Washington, DC, on August 15, 2003.
James R. Little,
Administrator, Farm Service Agency.

[FR Doc. 03-21490 Filed 8-21-03; 8:45 am]

BILLING CODE 3410-05-P